DEPARTMENT OF THE INTERIOR

National Park Service

Notice of Intent to Repatriate a Cultural Item: Museum of Western Colorado, Grand Junction, CO

AGENCY: National Park Service, Interior.

ACTION: Notice.

Notice is here given in accordance with the Native American Graves Protection and Repatriation Act (NAGPRA), 25 U.S.C. 3005, Sec. 7, of the intent to repatriate a cultural item in the possession of the Museum of Western Colorado, Grand Junction, CO, that meets the definition of “sacred object” under 25 U.S.C. 3001.

This notice is published as part of the National Park Service’s administrative responsibilities under NAGPRA, 25 U.S.C. 3003, Sec. 5 (d)(3). The determinations within this notice are the sole responsibility of the museum, institution, or Federal agency that has control of these cultural items. The National Park Service is not responsible for the determinations within this notice.

The cultural item is an Apache Gahe (Crown Dancer’s) mask. This mask is made of painted wood, hide (buckskin), feathers, cloth, and metal.

The mask was purchased by Paul Pletka in New Mexico. No other information regarding the date or circumstances of its acquisition is known. Mr. Pletka donated the mask to the Museum of Western Colorado in 1975.

Through consultations with members of the White Mountain Apache Tribe of the Fort Apache Reservation, Arizona and the Mescalero Apache Tribe of the Mescalero Reservation, New Mexico, the mask has been identified as a specific ceremonial object needed by the Mescalero Apache Tribe’s traditional Native American religious leaders for the practice of traditional religion. Independent research conducted by the museum’s professional staff, including discussions with the donor, support this assessment.

Officials of the Museum of Western Colorado have determined that, pursuant to 25 U.S.C. 3001, Sec. 2 (3)(C), this cultural item is a specific ceremonial object needed by traditional Native American religious leaders for the practice of traditional Native American religions by their present-day adherents. Officials of the Museum of Western Colorado also have determined that, pursuant to 25 U.S.C. 3001, Sec. 2 (2), there is a relationship of shared group identity that can be reasonably traced between the mask and the Mescalero Apache Tribe of the Mescalero Reservation, New Mexico.

Representatives of any other Indian tribe that believes itself to be culturally affiliated with this sacred object should contact Judy Prosser-Armstrong, Curator of Archives, Librarian and Registrar, Museum of Western Colorado, P.O. Box 20000, Grand Junction, CO 81502-5020, telephone (970) 242-0971, extension 210, before May 8, 2003. Repatriation of this sacred object to the Mescalero Apache Tribe of the Mescalero Reservation, New Mexico may proceed after that date if no additional claimants come forward.

The Museum of Western Colorado is responsible for notifying the Apache Tribe of the Fort Cobb Reservation, Fort Cobb, Oklahoma, a nonfederally recognized Indian group; Apache Tribe of Oklahoma; Fort McDowell Yavapai Nation, Arizona; Fort Sill Apache Tribe of Oklahoma; Jicarilla Apache Nation, New Mexico; Mescalero Apache Tribe of the Mescalero Reservation, New Mexico; San Carlos Apache Tribe of the San Carlos Reservation, Arizona; Tonto Apache Tribe of Arizona; White Mountain Apache Tribe of the Fort Apache Reservation, Arizona; and Yavapai-Apache Nation of the Camp Verde Indian Reservation, Arizona that this notice has been published.

Dated: February 7, 2003.
John Robbins,
Assistant Director, Cultural Resources Stewardship and Partnerships.

[FR Doc. 03-8504 Filed 4-7-03; 8:45 am]

BILLING CODE 4310-70-S